CONSUMER PRODUCT SAFETY COMMISSION

[Docket No. CPSC-2025-0004]

Agency Information Collection Activities; Proposed Collection; Carbon Monoxide Poisoning Prevention Grant Program Application

AGENCY: Consumer Product Safety Commission.

ACTION: Notice of information collection; request for comment.

SUMMARY: As required by the Paperwork Reduction Act of 1995, the Consumer Product Safety Commission (CPSC or Commission) announces that the Commission has submitted to the Office of Management and Budget (OMB) a request for approval of a new information collection. The collection is for an application by which potential grant recipients may request funding under CPSC's Carbon Monoxide Poisoning Prevention Grant Program (COPPGP). The COPPGP provides funds for state, local and tribal governments to reduce the number of injuries and deaths from carbon monoxide poisoning. On March 11, 2025, CPSC published a notice in the Federal Register to announce the agency's intention to seek approval of the collection of information. The Commission received one comment in support of the collection. By publication of this notice, the Commission announces that CPSC has submitted to the OMB a request for that collection of information.

DATES: Submit comments on the collection of information by July 14, 2025.

ADDRESSES: Submit comments about this request by email: OIRA_submission@omb.eop.gov or fax: 202-395-6881. Comments by mail should be sent to the Office of Information and Regulatory Affairs, Attn: OMB Desk Officer for the CPSC, Office of Management and Budget, Room 10235, 725 17th Street NW, Washington, DC 20503. Written comments that are sent to OMB also should be submitted electronically at https://www.regulations.gov, under Docket No. CPSC-2025-0004.

FOR FURTHER INFORMATION CONTACT: Cynthia Gillham, Consumer Product Safety Commission, 4330 East-West Highway, Bethesda, MD 20814; (301) 504-7791, or by email to: pra@cpsc.gov.

SUPPLEMENTARY INFORMATION: CPSC seeks approval for the following collection of information.¹

¹ On June 3, 2025, the Commission voted (2-0) to publish this notice.

Title: Carbon Monoxide Poisoning Prevention Grant Program Application.

OMB Number: New.

Type of Request: New information collection request.

Type of Review Requested: Regular.

Requested Expiration Date of Approval: Three years from date of approval.

Summary of the Collection of Information: The Nicholas and Zachary Burt Memorial Carbon Monoxide Poisoning Prevention Act of 2022 (NZB Act) authorizes CPSC to provide funding for the Carbon Monoxide Poisoning Prevention Grant Program (COPPGP). 15 U.S.C 2090. The COPPGP provides two-year grants to eligible state, local or tribal governments to reduce deaths and injuries from carbon monoxide poisoning. The grant awards can range from $50,000 to $400,000 per applicant. Prospective applicants will be able to access the grant application on Grants.gov and apply electronically through GrantSolutions. Applicants will be required to complete common forms ² used for federal grants, as well as up to six additional attachments specific to COPPGP. Awards are posted to the CPSC's website and via press release.

² A common form is an approved information collection and can be used by two or more agencies, or government-wide, for the same purpose. See https://pra.digital.gov/clearance-types/.

Description of the Need for the Information and Proposed Use of the Information: The COPPGP provides eligible State, local, and Tribal governments with funding to purchase and install carbon monoxide alarms and to develop training and public education programs in accordance with 15 U.S.C. 2090(e). The information collected through the application for COPPGP grants is used to determine eligibility and to provide funding to reduce deaths and injuries from carbon monoxide poisoning.

Affected Public: State, Local or Tribal or U.S. Territory Government.

Estimated Number of Respondents: CPSC expects up to 35 respondents annually.

Frequency: Annual.

Total Estimated Annual Burden: To apply for the COPPGP, in addition to completing common forms,³ an applicant would typically provide six attachments specific to the grant program.

³ The common forms include: SF-424A Budget Information—Non-Construction (OMB No. 4040-0006), SF-424B Assurances—Non-Construction Programs (OMB No. 4040-0007), Project Abstract Summary (OMB No. 4040-0019), SF-424 Application for Federal Assistance (OMB No. 4040-0020), and SF-LLL Disclosure of Lobbying Activities (OMB No. 4040-0013). To avoid double counting, the estimated burden for this collection does not include burden approved under these common forms.

• Attachment 1, the introduction, provides a table of contents and introduction and is estimated to take one hour to prepare, on average.

• Attachment 2, legal eligibility, provides references necessary to support that the applicant meets the legal eligibility requirements of the NZB Act and is estimated to take one hour to prepare, on average.

• Attachment 3, the work plan, provides the framework and describes all aspects of the proposed project and is estimated to take 40 hours to prepare, on average.

• Attachment 4, the budget table, provides a budget narrative and table for the 2-year project schedule and is estimated to take 10 hours to prepare, on average.

• Attachment 5, cost share, is an additional narrative documenting cost share on the budget (not required for tribal governments) and is estimated to take five hours to prepare, on average.

• Attachment 6, the indirect cost rate agreement, substantiates indirect costs that the NZB Act states may be reimbursed as permissible administrative costs and is estimated to take one hour to prepare, on average.

CPSC estimates it would take the applicant approximately 58 hours to compile attachments 1-6, except for tribal governments which would take approximately 53 hours because attachment 5 is not required. CPSC expects to receive 35 grant applications that utilize the attachments described, for a total burden hour estimate of 2,030 hours (58 hours per application × 35 applications). The actual burden may be slightly lower depending on the number of tribal government applications. However, to estimate the maximum burden, these estimates assume all applications to be non-tribal government applications.

Total Estimated Annual Burden Cost: CPSC estimates the compensation for the creation and compilation of attachments 1-6 is $62.92 per hour (U.S. Bureau of Labor Statistics, “Employer Costs for Employee Compensation,” September 2024, total compensation for state and local government workers: https://www.bls.gov/news.release/archives/ecec_12172024.pdf). Therefore, the estimated annual cost of the burden requirements is $127,728 ($62.92 per hour × 2,030 hours = $127,727.60). Based on this analysis, the collection of information would impose a total burden to applicants of 2,030 hours at a cost of $127,728.

Alberta E. Mills,
Secretary, Consumer Product Safety Commission.

[FR Doc. 2025-10754 Filed 6-12-25; 8:45 am]

BILLING CODE 6355-01-P